DEPARTMENT OF ENERGY

Federal Energy Regulatory Commission

[Docket No. IC24-28-000]

Commission Information Collection Activities (FERC-523); Comment Request; Extension

AGENCY: Federal Energy Regulatory Commission.

ACTION: Notice of information collection and request for comments.

SUMMARY: In compliance with the requirements of the Paperwork Reduction Act of 1995, the Federal Energy Regulatory Commission (Commission or FERC) is soliciting public comment on a renewal of currently approved information collection, FERC-523 (Application for Authorization for the Issuance of Securities or the Assumption of Liabilities).

DATES: Comments on the collection of information are due November 12, 2024.

ADDRESSES: You may submit comments (identified by Docket No. IC24-28-000) by one of the following methods:

• eFiling at Commission's Website: http://www.ferc.gov.

• U.S. Postal Service Mail: Persons unable to file electronically may mail similar pleadings to the Federal Energy Regulatory Commission, 888 First Street NE, Washington, DC 20426.

• Effective 7/1/2020, delivery of filings other than by eFiling or the U.S. Postal Service should be delivered to Health and Human Services, 12225 Wilkins Avenue, Rockville, Maryland 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Kayla Willams may be reached by email at DataClearance@FERC.gov, telephone at (202) 502-6468.

SUPPLEMENTARY INFORMATION:

Title: FERC-523, Application for Authorization for the Issuance of Securities or the Assumption of Liabilities.

OMB Control No.: 1902-0043.

Type of Request: Three-year approval of the FERC-523 information collection requirements with no changes to the current reporting requirements.

Abstract: The information collected by FERC-523 is required to implement the statutory provisions of section 204 of the Federal Power Act (FPA) (16 U.S.C. 824c). Under section 204 of the FPA, no public utility or licensee shall issue any security, or assume any obligation or liability as guarantor, endorser, surety, or otherwise in respect of any security of another person, until the public utility applies for and receives Commission approval by order authorizing the issuance or assumption of the liability. The Commission issues an order if it finds that such issuance or assumption (a) is for lawful object, within the corporate purposes of the applicant and compatible with the public interest, which is necessary or appropriate for or consistent with the proper performance by the applicant as a public utility, and which will not impair its ability to perform that service, and (b) is reasonably necessary or appropriate for such purposes.

The Commission uses the information contained in filings to determine its acceptance and/or rejection of applications for authorization to either issue securities or to assume an obligation or liability by the public utilities and licensees who submit these applications.

The specific application requirements and filing format are found at 18 CFR part 34, and 18 CFR 131.43 and 131.50. This information is filed electronically.

Type of Respondents: Public utilities subject to the Federal Power Act.

Estimate of Annual burden ¹ and cost: ² The Commission estimates the reduction in the annual public reporting burden for the FERC-523, as follows:

¹ Burden is defined as the total time, effort, or financial resources expended by persons to generate, maintain, retain, or disclose or provide information to or for a Federal agency. For further explanation of what is included in the information collection burden, refer to 5 Code of Federal Regulations 1320.3.

² Commission staff estimates that the industry's skill set and cost (for wages and benefits) for FERC-523 are approximately the same as the Commission's average cost. The FERC 2024 average salary plus benefits for one FERC full-time equivalent (FTE) is $207,786/year (or $100.00/hour).

FERC-523, Application for Authorization for Issuance of Securities or the Assumption of Liabilities
Number of respondents | Annual number of responses per respondent | Total number of responses | Average burden hours & cost ($) per response | Total annual burden hours & total annual cost ($) | Cost per respondent ($)
(1) | (2) | (1) * (2) = (3) | (4) | (3) * (4) = (5) | (5) ÷ (1)
72 | 1 | 72 | 70; $7,000 | 5,040; $504,000 | $7,000

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: September 3, 2024.
Debbie-Anne A. Reese,
Acting Secretary.

[FR Doc. 2024-20311 Filed 9-9-24; 8:45 am]

BILLING CODE 6717-01-P